DEPARTMENT OF ENERGY

Federal Energy Regulatory Commission

[Docket Nos. CP13-36-000, PF09-8-000]

Transcontinental Gas Pipe Line Company, LLC; Notice of Application

Take notice that on January 7, 2013, Transcontinental Gas Pipe Line Company, LLC (Transco), Post Office Box 1396, Houston, Texas 77251, filed in Docket No. CP13-36-000 an application under Section 7 of the Natural Gas Act and Part 157 the Commission's Rules and Regulations for all the necessary authorizations required to construct, own and operate its Rockaway Delivery Lateral Project (Rockaway Project) in New York. The Rockaway Project is an expansion of Transco's existing pipeline system which will enable Transco to make deliveries into National Grid's New York City distribution system at a new delivery point on the Rockaway Peninsula in Queens County, New York, and will provide 647,000 dekatherms per day of firm transportation service, all as more fully set forth in the application which is on file with the Commission and open to public inspection.

On March 26, 2009, the Commission staff granted Transco's request to utilize the Pre-Filing Process and assigned Docket No. PF09-8 to staff activities involved with Transco's Rockaway Project. Now, as of the filing of the application on January 7, 2013, the Pre-Filing Process for this project has ended. From this time forward, this proceeding will be conducted in Docket No. CP13-36-000, as noted in the caption of this Notice.

Transco states the Project will involve the construction of approximately 3.20-mile, 26-inch lateral from Transco's existing Lower New York Bay Extension at or near milepost 34.31 in New York State waters in the Atlantic Ocean to an interconnection with National Grid on the Rockaway Peninsula; a new meter station to be located at Floyd Bennett Field within Gateway National Recreation Area, in Kings County, New York; and related appurtenant facilities. The estimated cost of the Project is approximately $182.8 million.

Copies of this filing are available for review at the Commission in the Public Reference Room, or may be viewed on the Commission's Web site web at http://www.ferc.gov using the “eLibrary” link. Enter the docket number excluding the last three digits in the docket number field to access the document. For assistance, contact FERC at FERCOnlineSupport@ferc.gov or call toll-free, (886) 208-3676 or TTY, (202) 502-8659.

Questions regarding this application should be directed to Bill Hammons, P.O. Box 1396, Houston, Texas 77251; phone (713) 215-2130. Transco has also established a public Web site for the Rockaway Project (http://www.williams.com/rockaway), a toll-free phone number (1-866-455-9103) so that parties can call with questions about the Rockaway Project, and an email support address (PipelineExpansion@williams.com).

Transco has requested that the Commission issue a final order in this proceeding by October 1, 2013, to enable Discovery to commence construction of the proposed facilities to meet a November 1, 2014 in-service date.

There are two ways to become involved in the Commission's review of this project. First, any person wishing to obtain legal status by becoming a party to the proceedings for this project should, before the comment date of this notice, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the internet in lieu of paper. See 18 CFR 385.2001(a)(1)(iii) and the instructions on the Commission's web site (www.ferc.gov) under the “e-Filing” link. Persons unable to file electronically should submit an original and 14 copies of the protest or intervention to the Federal Energy regulatory Commission, 888 First Street NE., Washington, DC 20426.

Comment Date: 5:00 p.m. Eastern Time on February 12, 2013.

Dated: January 22, 2013.
Kimberly D. Bose,
Secretary.

[FR Doc. 2013-01773 Filed 1-28-13; 8:45 am]

BILLING CODE 6717-01-P